DEPARTMENT OF ENERGY

Federal Energy Regulatory Commission

[Docket Nos. ER01-2998-000, ER02-358-000, and Docket No. EL02-64-000 (Not Consolidated)]

Pacific Gas & Electric Company, Pacific Gas & Electric Company, Northern California Power Agency v. Pacific Gas & Electric Company and the California Independent System Operator Corporation; Notice of Technical Conferences

April 18, 2002.

In the Commission's order issued on March 14, 2002,¹ the Commission directed a technical conference be held to address issues raised by the filing.

¹ Pacific Gas & Electric Company, et al., 98 FERC ¶ 61,281 (2002).

Take notice that a technical/settlement conference will be held on Wednesday through Friday, May 1-3, 2002 at 10 a.m. in a room to be designated at the offices of the Federal Energy Regulatory Commission, 888 First Street, NE., Washington, DC 20426.

A second technical/settlement conference will be held on Tuesday through Thursday, May 21-23, 2002 at 10:00 a.m. in a room to be designated at the offices of the Federal Energy Regulatory Commission, 888 First Street, NE., Washington, DC 20426.

The parties will file a list of common issues in the above-referenced dockets with the Commission by April 25, 2002. Parties may file comments following the technical/settlement conferences by June 4, 2002, and reply comments by June 14, 2002.

All interested parties and staff are permitted to attend the conferences.

Linwood A. Watson, Jr.,
Deputy Secretary.

[FR Doc. 02-9998 Filed 4-23-02; 8:45 am]

BILLING CODE 6717-01-P